DEPARTMENT OF HEALTH AND HUMAN SERVICES

National Institutes of Health

National Cancer Institute; Amended Notice of Meeting

Notice is hereby given of a change in the meeting of the President's Cancer Panel, March 27, 2017, 9:00 a.m. to March 28, 2017, 1:00 p.m., Kimpton Hotel Palomar, Philadelphia, PA 19103 which was published in the Federal Register on February 1, 2017, 82 FR 8944.

This meeting notice is amended to change the ending date and time from March 28, 2017 at 1:00 p.m. to March 27, 2017 at 4:30 p.m. The agenda has also been amended as follows: “Welcome and Introductions; Session 1: The Pricing and Payment Landscapes—Framing the Issues—1 and 2; Session 2: Cancer Drug Value/Intervention Framework; Public Comment; Session 3: High-Cost/High Value Drugs; Session 4: High-Cost/Modest Value Drugs; Public Comment; Wrap-Up and Next Steps.” The meeting is open to the public.

Dated: February 14, 2017.
Melanie J. Pantoja,
Program Analyst, Office of Federal Advisory Committee Policy.

[FR Doc. 2017-03274 Filed 2-17-17; 8:45 am]

BILLING CODE 4140-01-P